DEPARTMENT OF ENERGY

Federal Energy Regulatory Commission

[Docket Nos. ER03-694-000 and ER03-694-001]

PJM Interconnection, L.L.C.; Notice of Staff Technical Conference

June 27, 2003.

On June 17, 2003, the Commission issued an Order Accepting and Suspending Tariff Sheets Subject to Refund and Establishing a Technical Conference regarding a filing made by PJM Interconnection, L.L.C. (PJM) proposing to establishing a charge for excessive bid/offer segments in its energy markets and Financial Transmission Rights (FTR) auctions. See PJM Interconnection, L.L.C., 103 FERC 2061,333 (2003).

Take notice that a staff technical conference on the matters set forth in the Commission's order will be held for one day, on Wednesday July 16, 2003, from 10 a.m. to 5 p.m., in a room to be designated at the offices of the Federal Energy Regulatory Commission, 888 First Street, NE., Washington, DC 20426. PJM and persons protesting various aspects of PJM's filing should be prepared to answer questions and deliver presentations.

All interested persons are permitted to attend. To assist Staff, attendees are requested to e-mail valerie.martin@ferc.gov. stating your name, the name of the entity you represent, the names of the persons who will be accompanying you, and a telephone number where you can be reached.

Among the issues the Staff is interested in exploring are:

A. How does bidding to take advantage of small arbitrage opportunities affect the markets operated by PJM? What other benefits and/or disadvantages might such behavior cause customers? For example, how has this type of financial trading affected price differences between PJM's day-ahead and real-time energy markets?

B. How should the cost of PJM's proposed information system upgrades be recovered? If this type of financial trading activity benefits the energy markets, then is it appropriate to recover costs from all customers or through a separate charge for excessive bids? For example, has bidding to take advantage of small arbitrage opportunities assured more efficient pricing of transactions?

C. Would PJM's proposed information system upgrades be installed solely as a result of system expansion?

D. What were the monthly average number of bids/offers submitted in PJM's monthly FTR auctions from 2001 to the present? What were the average number of bids/offers submitted in the second, third and fourth rounds of the 2003 Annual FTR auction?

The above schedule may be changed as circumstances warrant.

Magalie R. Salas,
Secretary.

[FR Doc. 03-16854 Filed 7-2-03; 8:45 am]

BILLING CODE 6717-01-P